DEPARTMENT OF HEALTH AND HUMAN SERVICES

Administration for Children and Families

Submission for OMB Review; Trafficking Victim Assistance Program Data (OMB #0970-0467)

AGENCY: Office on Trafficking in Persons, Administration for Children and Families, U.S. Department of Health and Human Services.

ACTION: Request for public comments.

SUMMARY: The Office on Trafficking in Persons (OTIP), Administration for Children and Families (ACF), U.S. Department of Health and Human Services (HHS), is requesting to renewal with revisions of an approved information collection: Trafficking Victim Assistance Program (TVAP) Data (OMB #0970-0467).

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: OTIP proposes to continue to collect information to measure grant project performance, provide technical assistance to grant recipients, assess program outcomes, inform program evaluation, respond to congressional inquiries and mandated reports, and inform policy and program development that is responsive to the needs of victims.

The information collection captures information on participant demographics (e.g., age, gender identity, race/ethnicity, country of origin), type of trafficking experienced (sex, labor, or both), types of services and benefits provided, along with aggregate information on the amount of money spent on each type of service provided, outreach activities conducted, subrecipients enrolled, and the types of trainings provided to relevant audiences. Minor updates have been made to performance indicators under this collection in consultation with existing grant recipients and stakeholders, to reduce respondent burden, strengthen client privacy and confidentiality, and to bring the collection into alignment with program requirements under the revised TVAP. Specifically, to reduce burden and strengthen client privacy and confidentiality, the following TVAP client-level indicators have been removed: Type of Intake, Date of Birth, Services Requested at Intake, Benefits Requested at Intake, Trafficker Relationship to Victim, and Employment Status at Case Closure. To reduce respondent burden, additional proposed outreach and subrecipient indicators have also been removed: Screening Tool Used During Outreach, Goal of Subrecipient Partnership, Type of Subrecipient Partnership; Services Provided by Subrecipient (In-House) and Services Provided by Subrecipient (by Referral) have been collapsed into one category: Services Provided By Subrecipient. To bring the collection into alignment with the revised TVAP requirements, outreach-specific indicators have been added, specifically: Number of Outreach Activities Conducted, Date of Outreach Activity, Outreach Settings, Target Population(s), Number of Victims Identified. The TVAP Spending Form was renamed to Categories of Assistance and categories have been simplified to reduce reporting burden.

Respondents: TVAP Grant Recipients and Clients of those programs, specifically the: TVAP (HHS-2022-ACF-IOAS-OTIP-ZV-0150), Aspire: Child Trafficking Victim Assistance Demonstration Program (HHS-2022-ACF-IOAS-OTIP-TV-0099), Victims of Human Trafficking Services and Outreach Program—Pacific Region Demonstration Program (VHT-SO Pacific) (HHS-2022-ACF-IOAS-OTIP-ZV-0038) and the Lighthouse: Services, Outreach, and Awareness for Labor Trafficking (Lighthouse) Demonstration Program (HHS-2022-ACF-IOAS-OTIP-ZV-0059).

Annual Burden Estimates
Instrument | Total number of respondents | Total number of responses per respondent | Average burden hours per response | Total burden hours | Annual burden hours
Client Characteristics and Program Entry | 6600 | 1 | 0.75 | 4950 | 1650
Client Case Closure | 6600 | 1 | 0.167 | 1102.2 | 367.4
Barriers to Service Delivery and Monitoring | 386 | 4 | 0.167 | 257.85 | 85.95
Client Service Use and Delivery | 6600 | 1 | 0.25 | 1650 | 550
Victim Outreach | 386 | 4 | 0.3 | 463.2 | 154.4
Training | 386 | 4 | 0.5 | 772 | 257.3
Subrecipient Enrollment | 193 | 2 | 0.167 | 64.5 | 21.5
Categories of Assistance | 193 | 1 | 0.5 | 96.5 | 32.2

Estimated Total Annual Burden Hours: 3118.75.

Authority: 22 U.S.C. 7105.

Mary B. Jones,
ACF/OPRE Certifying Officer.

[FR Doc. 2022-22842 Filed 10-20-22; 8:45 am]

BILLING CODE 4184-47-P